ENVIRONMENTAL PROTECTION AGENCY

[FRL-6999-2]

Chesapeake Bay Program FY2002 Request; Correction of Website

On May 30, 2001, at (66 FR 29308) of the Federal Register, the U.S. Environmental Protection Agency, Chesapeake Bay Program issued a request for proposals (RFP) that would further the goals of the Chesapeake 2000 Agreement. The RFP was available May 30, 2001. The website that was listed was incorrect. The correst website is: http://www.epa.gov/r3chespk/ You may receive a paper copy by calling Kim Scalia at 215-814-5421 or by a e-mail at scalia.kim@epa.gov or by calling Lori Mackey at 410-267-5715 or by e-mail at mackey.lori@epa.gov. All proposals must be postmarked by Monday, July 16, 2001.

Peter J. Marx,
Associate Director, Communications and Support Staff.

[FR Doc. 01-15877 Filed 6-22-01; 8:45 am]

BILLING CODE 6560-50-M